DEPARTMENT OF VETERANS AFFAIRS

[OMB Control No. 2900-0782]

Revision to a Previously Approved Information Collection (Veterans Benefits Administration (VBA) Voice of the Veteran Customer Satisfaction Continuous Measurement Survey) Activity: Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before November 28, 2016.

ADDRESSES: Submit written comments on the collection of information through Federal Docket Management System (FDMS) at www.Regulations.gov or to Nancy J. Kessinger, Veterans Benefits Administration (20M33), Department of Veterans Affairs, 810 Vermont Avenue NW., Washington, DC 20420 or email to nancy.kessinger@va.gov. Please refer to “OMB Control No. 2900-0782” in any correspondence. During the comment period, comments may be viewed online through the FDMS.

FOR FURTHER INFORMATION CONTACT: Nancy J. Kessinger at (202) 632-8924 or FAX (202) 632-8925.

SUPPLEMENTARY INFORMATION: Under the PRA of 1995 (Pub. L. 104-13; 44 U.S.C. 3501-21), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title:

a. Compensation Enrollment Survey

b. Compensation Servicing Survey

c. Pension Enrollment Survey

d. Pension Servicing Survey

e. Specially Adapted Housing (SAH) Servicing Survey

f. Loan Guaranty (LGY) Home Loan Survey

g. Education Enrollment Survey

h. Education Servicing Survey

i. Vocational Rehabilitation & Employment (VRE) Enrollment Survey

j. Vocational Rehabilitation (VRE) Servicing Survey Instrument

k. Vocational Rehabilitation & Employment VRE Non-Participant Survey

OMB Control Number: 2900-0782.

Type of Review: Revision of an approved collection.

Abstract: In 2008, VBA recognized a need to develop and design an integrated, comprehensive Voice of the Veteran (VOV) Continuous Measurement (CM) program for its lines of business: Compensation Service (CS), Pension Service (PS), Education (EDU) Service, Loan Guaranty (LGY) Service and Vocational Rehabilitation and Employment (VR&E) Service. The VOV CM program provides insight regarding Veterans and beneficiaries interactions with the benefits and services provided by VBA. The VOV CM provides VBA leadership with actionable Veteran feedback on how VBA is performing. These insights help identify opportunities for improvement and measure the impact of improvement initiatives.

VBA conducted a benchmark study in Fiscal Year 2013 (October 2012 through January 2013) in order to validate the survey instruments, identify Key Performance Indicators, and establish performance benchmarks. Findings and recommendations were presented to VBA Leadership and stakeholders within each line of business in April 2013.

Based on interviews conducted, VBA has separated the Veterans experience with VBA into two categories:

1. Access to a Benefit. This measures the enrollment experience transaction with the beneficiary or Veteran.

2. Servicing of a Benefit. This measures the ongoing relationship experiences with the beneficiary or Veteran.

Each business line desired to understand the components of the overall customer experience. Each VBA business line wanted to engage their Veteran population with relevant questions regarding their experience. The following outlines how that is approached with each of the lines of business.

Affected Public: Individuals or households.

Compensation and Pension Programs

During 2014 J.D. Power fielded three survey instruments for the Compensation and Pension programs. Discussions with stakeholders from both programs indicated that one survey instrument could be used for both Compensation and Pension Enrollment category claimants. In FY2015, Compensation and Pension identified the need to separate the Enrollment survey to better serve the business needs of each program.

The Compensation Enrollment survey pool for the VOV Continuous Measurement Study includes individuals who have received a decision on a compensation benefit claim within 30 days prior to the fielding period. This includes those who were found eligible on a new or subsequent claim and those who have been denied and lack a current appeal of the decision. The Pension Enrollment survey pool includes individuals who have received a decision on a pension benefit claim within the past 30 days. The Compensation Servicing survey pool includes individuals who received a decision and are receiving benefit payments. The Pension Servicing survey pool includes individuals who established and completed a claim in the previous fiscal year.

Education Program

J.D. Power fielded two survey instruments for Education Service. The Education Enrollment survey pool includes individuals who received a decision on their education benefit application within 90 days (i.e., the original end-product was cleared within the past 90 days) prior to the fielding period. The Education Servicing survey pool includes beneficiaries who are currently receiving benefits. The definition of those receiving benefits varies based on the educational program. Chapter 33 beneficiaries who have received at least 2 payments for “tuition” in the past 9 months are included in the survey pool. Chapter 30, Chapter 1606, and Chapter 1607 beneficiaries who have received 5 monthly payments during the past 9 months are included.

Loan Guaranty and Specially Adapted Housing Programs

J.D. Power fielded two survey instruments for Loan Guaranty Service. The survey pool for the tracking study for the LGY Enrollment questionnaire includes individuals from a 30 day period who closed on a VA home loan in the 90 days prior to the fielding period. The sample is stratified as follows: (1) Those who closed on purchase loans, (2) those who received loans for interest rate reductions, and (3) those who obtained cash out or other refinancing. The survey pool for the tracking study for the SAH Servicing questionnaire includes individuals who are eligible for a specially adapted housing grant and in the past 12 months have: (1) Received an approval on their grant and are currently somewhere in post-approval, (2) have had all their funds dispersed and final accounting is not yet complete, and (3) have had all of their funds dispersed and final accounting is complete.

Vocational Rehabilitation and Employment Program

J.D. Power fielded three survey instruments for Vocational Rehabilitation & Employment Service (VR&E). The VR&E Enrollment survey pool includes individuals who applied within the last 12 months, entered Evaluation and Planning and (1) entered any of the following case statuses: Extended Evaluation, Independent Living (IL), Rehabilitation to Employment (RTE), or Job Ready Status (JRS) (excludes re-applicants), or (2) were found not entitled. The VR&E Servicing survey pool includes individuals who in the last 30 days were in a plan of services for more than 60 days, all rehabilitated participants, and MRGs. Participants who interrupted their plan are excluded. The VR&E Non-Participant survey explores why eligible individuals chose not to pursue the benefit entitlement. The VR&E Non-Participant questionnaire survey pool includes individuals who dropped out of the program prior to completing a rehabilitation plan. The sample is stratified as follows: (1) Applicants who never attended the initial meeting with a counselor, (2) applicants who were entitled to the program but did not pursue a plan of service, and (3) applicants who started, but did not complete a rehabilitation plan (i.e., negative closures).

Estimated Annual Burden: 32,701 hours per year for the life of the collection.

Estimated Average Burden per Respondent: 15 minutes.

Frequency of Response: Once Annually (Respondents will not be surveyed more than once in a given year).

Estimated Number of Respondents: 130,800.

By direction of the Secretary.
Cynthia Harvey-Pryor,
Program Specialist, Office of Privacy and Records Management, Department of Veterans Affairs.

[FR Doc. 2016-23241 Filed 9-26-16; 8:45 am]

BILLING CODE 8320-01-P